DEPARTMENT OF THE INTERIOR

Bureau of Ocean Energy Management

[Docket No. BOEM-2022-0023]

Call for Information and Nominations—Commercial Leasing for Wind Power Development on the Central Atlantic Outer Continental Shelf (OCS)

AGENCY: Bureau of Ocean Energy Management (BOEM), Interior.

ACTION: Call for information and nominations; request for comments.

SUMMARY: This call for information and nominations (Call or notice) invites public comment on and assesses interest in possible commercial wind energy leasing on the OCS offshore the U.S. central Atlantic coast. BOEM will consider information received in response to this Call to determine whether to schedule a competitive lease sale or to issue a noncompetitive lease for any portion of the area described in this Call (Call Area). Those interested in providing comments and information regarding site conditions, resources, and multiple uses in close proximity to or within the Call Areas should provide the information requested in section 7, “Requested Information from Interested or Affected Parties,” under Supplementary Information. Those interested in leasing within the Call Area for a commercial wind energy project should provide the information described in section 8, “Required Nomination Information,” under the Supplementary Information heading of this Call. BOEM may or may not offer a lease for a commercial offshore wind energy project within the Call Area after further government consultations, public participation, and environmental analyses.

DATES: Submit your interest in or comments on commercial leasing within the Call Area no later than June 28, 2022. Late submissions may not be considered.

ADDRESSES: Please submit nomination information for commercial leasing as discussed in section 8 entitled “Required Nomination Information” via U.S. Postal Service, Fedex, UPS, or another mail carrier to: Bridgette Duplantis, Bureau of Ocean Energy Management, Office of Leasing and Plans, 1201 Elmwood Park Boulevard, New Orleans, Louisiana 70123. In addition to a paper copy, include an electronic copy on a digital data storage device. Do not submit nominations via the Federal eRulemaking Portal. BOEM will list the parties that submitted nominations and the aggregated locations of nominated areas on the BOEM website after BOEM has completed its review of the nominations.

Please submit all other comments and information by either of the following two methods:

1. Federal eRulemaking Portal: http://www.regulations.gov. In the search box at the top of the web page, enter BOEM-2022-0023 and then click “search.” Follow the instructions to submit public comments and to view supporting and related materials.

2. U.S. Postal Service or other mail delivery service. Send your comments and other information to the following address: Bridgette Duplantis, Bureau of Ocean Energy Management, Office of Leasing and Plans, 1201 Elmwood Park Boulevard, New Orleans, Louisiana 70123.

For information about submitting public comments, please see the section 9 under Supplementary Information entitled “Protection of Privileged, Personal, or Confidential Information.”

FOR FURTHER INFORMATION CONTACT: Bridgette Duplantis, Project Coordinator, Office of Leasing and Plans, Leasing and Financial Responsibility Section, 1201 Elmwood Park Boulevard, New Orleans, Louisiana 70123, Bridgette.Duplantis@boem.gov.

For information regarding qualification requirements to hold a BOEM-issued lease, contact Gina Best, BOEM Office of Renewable Energy Programs, at gina.best@boem.gov or 703-787-1341.

SUPPLEMENTARY INFORMATION:

1. Authority

This Call is published under subsection 8(p)(3) of the Outer Continental Shelf Lands Act (OCSLA), 43 U.S.C. 1337(p)(3), and its implementing regulations at 30 CFR 585.210 and 585.211.

2. Purpose

An essential part of BOEM's renewable energy leasing process is working closely with state and local governments, Tribes, industry and ocean users to identify areas that may be suitable for potential offshore wind development to power the nation. This Call for Information and Nominations serves two important purposes. The first is to collect information and feedback on site conditions, resources and ocean uses within the identified area. The second is to help BOEM determine competitive interest. BOEM has not yet determined which areas, if any, within the Call Area may be offered for lease. Your input is essential and will help BOEM determine areas that may be suitable for offshore wind development. While this is not the only opportunity to provide feedback, it is an important one. There will be multiple opportunities to provide feedback throughout the renewable energy process including if BOEM receives any proposed projects in the future. An explanation of the Call Areas and their detailed descriptions may be found below in Section 6. For more information about BOEM's competitive and noncompetitive leasing process, please see Section 4.

3. Background

The Energy Policy Act of 2005 amended OCSLA by adding subsection 8(p)(1)(C), which authorizes the Secretary of the Interior to grant leases, easements, and rights-of-way (ROWs) on the OCS for activities that are not otherwise authorized by law and that produce or support production, transportation, or transmission of energy from sources other than oil or gas, including renewable energy sources. The Secretary delegated this authority to the BOEM director. On April 29, 2009, the Department of the Interior published regulations entitled “Renewable Energy and Alternate Uses of Existing Facilities on the Outer Continental Shelf,” which were subsequently re-codified at 30 CFR part 585 in October 2011 and which can be found at: https://www.ecfr.gov/current/title-30/chapter-V/subchapter-B/part-585.

In March 2021, Secretary of the Interior Deb Haaland, Secretary of Commerce Gina Raimondo, and Secretary of Energy Jennifer Granholm jointly established the goal to deploy 30 gigawatts of offshore wind energy capacity by 2030. BOEM is committed to this ambitious goal by responsibly fostering the growth of offshore wind energy capacity and participating in collaborative, data-based planning to inform decisions involving shared ocean resources and the many users that depend on them.

BOEM appreciates the importance of coordinating its planning with other OCS users, regulators, and relevant Federal agencies—including, but not limited to, the U.S. Fish and Wildlife Service, the National Park Service, the U.S. Coast Guard (USCG), the National Oceanic and Atmospheric Administration (NOAA), and the Department of Defense (DOD). BOEM also regularly coordinates with and requests input from the Mid-Atlantic Committee on the Ocean and the Northeast Regional Ocean Council, both of which include Federal and State agencies, federally recognized Tribes, and fishery management councils. BOEM also uses information contained in the Mid-Atlantic Ocean Data Portal ¹ in its decision-making, among other sources of information, because the portal includes maps of marine life, habitat areas, cultural resources, transportation links, fishing areas, and other human uses that must be considered when offshore energy or other infrastructure projects are proposed.

¹ The Mid-Atlantic Ocean Data Portal (maintained by the Mid-Atlantic Committee on the Ocean http://portal.midatlanticocean.org)draws upon data from the MarineCadastre.gov national data portal, which was developed through a partnership between NOAA and BOEM. MarineCadastre.gov is an integrated marine information system that provides data, tools, and technical support for ocean and Great Lakes planning, designed specifically to support renewable energy siting on the OCS, but also used for other ocean-related efforts and recognized by regional ocean governance groups as the central place for authoritative Federal ocean data, metadata, and map services.

In 2020 and 2021, BOEM received letters from the Commonwealth of Virginia and the State of Maryland, respectively, requesting the formation of a regional renewable energy task force that could start the process that may lead to a lease sale. In response, BOEM established the Central Atlantic Intergovernmental Renewable Energy Task Force to facilitate coordination among relevant Federal agencies and affected State, local, and Tribal governments throughout the leasing process. The first task force meeting was held virtually on February 16, 2022. Materials from the task force meeting are available on the BOEM website at: https://www.boem.gov/renewable-energy/state-activities/central-atlantic-activities.

4. BOEM's Planning and Leasing Process

a. Determination of Competitive Interest

Subsection 8(p)(3) of OCSLA states that “the Secretary shall issue a lease, easement, or right-of-way . . . on a competitive basis unless the Secretary determines after public notice of a proposed lease, easement, or right-of-way that there is no competitive interest.” Accordingly, BOEM must first determine whether there is competitive interest in acquiring a lease to develop offshore wind energy within the Call Area. At the conclusion of this Call's comment period, BOEM will review the nominations received and determine if competitive interest exists in any part of the Call Area.

For areas with two or more valid nominations, BOEM may consider proceeding with competitive leasing as described in the section of this Call entitled “Competitive Leasing Process.” For areas where BOEM determines that there is only one interested entity, BOEM may consider proceeding with noncompetitive leasing, as described in the section entitled “Noncompetitive Leasing Process.” However, BOEM may also determine there is competitive interest in an area with only a single nomination based on input received in response to this notice, market conditions, and the amount of area available for leasing.

If BOEM determines that competitive interest exists in areas BOEM identifies as appropriate to lease, BOEM may hold one or more competitive lease sales for those areas. If BOEM holds a lease sale, all qualified bidders, including bidders that did not submit a nomination in response to this Call, will be able to participate in the lease sale.

BOEM reserves the rights to not offer for lease areas that are nominated as a result of this Call and to modify nominated areas from their proposed form before offering them for lease.

b. Competitive Leasing Process

BOEM will follow the steps required by 30 CFR 585.211 through 585.225 if it decides to proceed with the competitive leasing process after analyzing the responses to this Call. Those steps are:

(1) Area Identification: Based on the information received in response to this Call, BOEM will determine the level of commercial interest and identify the areas that are appropriate to analyze for potential leasing. Those areas will constitute wind energy areas (WEA) and will be subject to environmental analysis in consultation with appropriate Federal agencies, federally recognized Tribes, State and local governments, and other interested parties.

(2) Proposed Sale Notice (PSN): If BOEM decides to proceed with a competitive lease sale within the WEA after completion of its environmental analysis and consultations, BOEM will publish a PSN in the Federal Register with a comment period of 60 days. The PSN will describe the areas BOEM intends to offer for leasing, the proposed conditions of a lease sale, the proposed auction format of the lease sale, and the lease instrument, including lease addenda. Additionally, the PSN will describe the criteria and process for evaluating bids in the lease sale.

(3) Final Sale Notice (FSN): After considering the comments on the PSN, if BOEM decides to proceed with a competitive lease sale, it will publish an FSN in the Federal Register at least 30 days before the date of the lease sale.

(4) Bid Submission and Evaluation: Following publication of the FSN in the Federal Register, BOEM will offer the lease areas through a competitive sale process, using procedures specified in the FSN. BOEM will review the sale, including bids and bid deposits, for technical and legal adequacy. BOEM will ensure that bidders have complied with all applicable regulations. BOEM reserves the right to reject any or all bids and to withdraw an offer to lease an area, even after bids have been submitted.

(5) Issuance of a Lease: Following identification of the winning bidder on a lease area, BOEM will notify that bidder and provide the lease documents for signature. BOEM requires a winning bidder to sign and return the lease documents, pay the remainder of its bid, if applicable, and file the required financial assurance within 10-business days of receiving the lease documents. Upon receipt of the required payments, financial assurance, and signed lease documents, BOEM may execute a lease with the winning bidder.

c. Noncompetitive Leasing Process

BOEM's noncompetitive leasing process includes the following steps under 30 CFR 585.231 and 585.232:

(1) Determination of No Competitive Interest: If, after evaluating all relevant information, including responses to this Call, BOEM determines there is no competitive interest in all or a portion of the Call Area, it may proceed with the noncompetitive lease issuance process. BOEM will determine if the sole respondent, who nominated a particular area, intends to proceed with acquiring the lease; if so, the respondent must submit the acquisition fee. After receiving the acquisition fee, BOEM will publish a determination of no competitive interest in the Federal Register.

(2) Review of Lease Request: BOEM will coordinate and consult, as appropriate, with relevant Federal agencies, federally recognized Tribes, affected State and local governments, and other affected or interested parties in reviewing the noncompetitive leasing request and in formulating lease terms, conditions, and stipulations. BOEM also will complete the appropriate environmental analysis to inform its decision-making.

(3) Lease Issuance: After completing its review of the lease request and environmental analysis, BOEM may offer a noncompetitive lease. Within 10-business days of receiving the lease, the respondent must execute it and provide a $100,000 bond to guarantee compliance with all terms and conditions of the lease. Within 45 days of receiving the lease, the lessee must pay the first 12 months' rent.

5. Development of the Call Area

BOEM delineated the Call Area in consultation with several Federal agencies and State and Tribal governments through the Central Atlantic Intergovernmental Renewable Energy Task Force. BOEM also held multiple meetings to gather information from the maritime, fishing, and wind energy industries and environmental organizations. The Call Area identifies portions of the OCS for further analysis. That analysis includes commercial nominations and public comments submitted in response to this Call so that potential use conflicts can be analyzed during the next step in the leasing process, designation of specific wind energy areas (Area Identification). BOEM's analysis during Area Identification will evaluate the appropriateness of the Call Area for offshore wind energy development, balanced against potential ocean user conflicts. BOEM will consider information from environmental reviews, consultations, public comments, and continued coordination with the Central Atlantic Intergovernmental Renewable Energy Task Force. Consequently, BOEM anticipates designating specific WEAs within the Call Area and developing lease terms and conditions to mitigate any possible adverse impacts from leasing, site assessment, construction, and operational activities.

a. Coordination With DOD

The DOD conducts offshore testing, training, and operations within portions of the Call Area. BOEM intends to refine the Call Area during the Area Identification process based on DOD's assessment of compatibility between commercial offshore wind energy development and DOD activities. BOEM is working with DOD to update the Central Atlantic's offshore wind energy compatibility assessment. That assessment identifies wind energy exclusion areas and areas that may require site-specific conditions and stipulations to ensure offshore wind energy facilities are compatible with DOD activities. These stipulations may include, among others: Hold and save harmless agreements; mandatory coordination with DOD on specified activities; restrictions on electromagnetic emissions; and evacuation procedures from the lease area for safety reasons when notified by the DOD. BOEM may remove from leasing consideration any OCS blocks identified as incompatible with DOD's activities in the updated assessment.

b. Coordination With USCG

BOEM is aware of potential conflicts with preliminary USCG shipping fairways. BOEM is working closely with USCG to ensure the WEAs and fairways are deconflicted during Area Identification.

c. Deep-Sea Coral and Hardbottom Habitats

BOEM is aware that deep-sea corals likely occur within the deeper waters of the Call Area. BOEM has removed from the Call Area submarine canyons where discreet, deep-sea corals have been identified. BOEM recently funded a study that synthesized data and modeled deep-sea coral and hardbottom habitats on the OCS offshore the U.S. southeast Atlantic coast, including the deep-sea portions of the Call Area. BOEM will consider this study during Area Identification.

6. Description of Call Area

The Call Area comprises six distinct areas located seaward of the Submerged Lands Act boundary on the OCS offshore the U.S. central Atlantic coast, bounded on the north by areas within the Salisbury (NJ18-05) Official Protraction Diagram east of existing commercial leasehold OCS-A 0482 and northeast of existing commercial leasehold OCS-A 0490, bounded on the east by areas within Wilmington Canyon (NJ18-06) and Currituck Sound (NJ18-11) Official Protraction Diagrams, bounded on the south by areas northeast and southeast of existing commercial leasehold OCS-A 0508 within the Currituck (NJ18-11) and Manteo (NI18-02) Official Protraction Diagrams. The area for potential wind energy leasing consists of approximately 3.9 million acres (figure 1).

The Call Area is located offshore the Commonwealth of Virginia and the States of Delaware, Maryland, and North Carolina and comprises areas A-F in figure 1. These six areas include 496 whole OCS blocks and 298 partial blocks and comprise approximately 3,897,388 acres (1,577,217 hectares). The list of blocks and sub-blocks included in the Call Area, a map of the Call Area, and associated geographic information files, which are located in Geographic Coordinate System NAD 1983 Datum, are incorporated by reference into this Call and are available at https://www.boem.gov/renewable-energy/state-activities/central-atlantic-activities.

• Call Area A: The boundary of Call Area A begins approximately 20 nautical miles (nmi) offshore of Delaware and Maryland and extends eastward to the Sea Scallop Rotational Area and the proposed USCG's Port Access Route Studies (PARS) fairways. The area at its widest points is about 12 nmi from east to west and about 29 nmi from north to south. Call Area A does not include the Del-Jersey artificial reef and comprises approximately 235,222 acres (95,191 hectares).

• Call Area B: The boundary of Call Area B begins approximately 21 nmi offshore of Maryland and Virginia and extends eastward to the 60-meter bathymetric contour and the proposed PARS fairways. The area at its widest points is about 14 nmi from east to west and about 69 nmi from north to south. Call Area B comprises approximately 652,218 acres (263,943 hectares).

• Call Area C: The boundary of Call Area C begins approximately 35 nmi offshore of Virginia and extends eastward to the 60-meter bathymetric contour. The area is about 21 nmi from east to west and about 10 nmi from north to south. Call Area C comprises approximately 183,907 acres (74,425 hectares).

• Call Area D: The boundary of Call Area D begins approximately 24 nmi offshore of Virginia and North Carolina and extends eastward to the 60-meter bathymetric contour. The area at its widest points is about 28 nmi from east to west and about 40 nmi from north to south. Call Area D comprises approximately 442,553 acres (179,095 hectares).

• Call Area E: The boundary of Call Area E begins approximately 56 nmi offshore of Delaware, Maryland, and Virginia and extends eastward to between the 2,500 and 2,600-meter bathymetric contour. The area at its widest points is about 35 nmi from east to west and about 84 nmi from north to south. Call Area E comprises is approximately 1.6 million acres (655,590 hectares).

• Call Area F: The boundary of Call Area F begins approximately 44 nmi offshore of Virginia and North Carolina and extends eastward to between the 2,500 and 2,600-meter bathymetric contour. The area at its widest points is about 20 nmi from east to west and about 66 nmi from north to south. Call Area F comprises approximately 763,491 acres (308,974 hectares).

7. Requested Information From Interested or Affected Parties

BOEM requests comments regarding the following features, activities, mitigations, or concerns within or around the Call Area. Commenters should be as specific and detailed as possible to help BOEM understand and address the comments. Where applicable, this information should be submitted as a spatial file compatible with ArcGIS 10.8.1 in a geographic coordinate system (NAD 83) in addition to your hard copy submittal.

a. Geological, geophysical, and biological bathymetric conditions (including bottom and shallow hazards and whether seafloor is covered with living organisms).

b. Known archaeological and cultural resource sites on the seabed.

c. Information regarding the identification of historic properties or potential effects to historic properties from leasing, site assessment activities (including the construction of meteorological towers or the installation of meteorological buoys), or commercial wind energy development in the Call Area. This includes potential offshore archaeological sites or other historic properties within the areas described in this notice and onshore historic properties that could potentially be affected by renewable energy activities within the Call Area. This information will inform BOEM's review of future undertakings under section 106 of the National Historic Preservation Act (NHPA) and under the National Environmental Policy Act (NEPA).

d. Information about potentially conflicting uses of the Call Area, including navigation (in particular, commercial shipping and recreational vessel use), recreation, and fisheries (commercial and recreational). Additional information regarding recreational and commercial fisheries including, but not limited to, the use of the areas, the types of fishing gear used, seasonal use, and recommendations for reducing use conflicts.

e. Information relating to visual resources and aesthetics, the potential impacts of wind turbines and associated infrastructure to those resources, and potential strategies to help mitigate or minimize any visual effects.

f. Information regarding the potential for interference with radar systems covering the Call Area, including, but not limited to, the use of coastal oceanographic radar observations for offshore search and rescue operations and for environmental monitoring.

g. Information on the constraints and advantages of possible electrical cable transmission routes, including onshore landing and interconnection points for cables connecting offshore wind energy facilities to the onshore electrical grid and future demand for electricity in the U.S. mid-Atlantic region.

h. General interest by developers in constructing a backbone transmission system that would transport electricity generated by wind projects in the Call Area to the onshore grid, including a general description of the transmission system's proposed path and potential interconnection points.

i. Information regarding the size and number of WEAs, taking into consideration the offshore wind energy goals of States bordering the Call Area. BOEM is also seeking further information on what additional factors should be considered in this process.

j. BOEM is aware that there may be technoeconomic feasibility concerns with areas beyond 1,300 meters in water depth. However, BOEM seeks feedback on the viability of constructing a wind energy facility in these frontier areas including: consideration of available floating technology; site characterization and assessment technologies, equipment, and methodologies likely to be employed; transmission distance; water depth; seafloor conditions; and operations and maintenance feasibility and costs.

k. Habitats that may require special attention during siting and construction.

l. Information regarding the identification of protected species, federally designated (or proposed) critical habitat, essential fish habitat, or areas that are environmentally sensitive or crucial to marine productivity and are State or federally managed for their conservation value.

m. Other relevant socioeconomic, cultural, biological, and environmental data and information.

8. Required Nomination Information

If you wish to nominate one or more areas for a commercial wind energy lease within the Call Area, you must provide the following information for each nomination:

a. The BOEM protraction name, number, and the specific whole or partial OCS blocks within the Call Area that you are interested in leasing. Each area you identify should be sized appropriately to accommodate the development of a reasonable wind energy facility. For context, BOEM would consider the nomination of an area comprising approximately 80,000 acres reasonable, as it would likely be able to support an 800-megawatt wind energy facility (assuming a power density of 0.01 megawatts per acre). Nominations that considerably exceed approximately 80,000 acres, such as a nomination for all of the Call Area, may be deemed unreasonable and not accepted by BOEM. This information should be submitted as a spatial file compatible with ArcGIS 10.8.1 in a geographic coordinate system (NAD 83) in addition to your hard copy submittal. If your nomination includes one or more partial blocks, please describe those partial blocks in terms of sixteenths (i.e., sub-block) of an OCS block.

b. A description of your objectives and the facilities that you would use to achieve those objectives.

c. A preliminary schedule of proposed activities, including those leading to commercial operations.

d. Available and pertinent data and information concerning renewable energy resources and environmental conditions in each area that you wish to lease, including energy and resource data and information used to evaluate the area. Where applicable, spatial information should be submitted in a format compatible with ArcGIS 10.8.1 in a geographic coordinate system (NAD 83).

e. Documentation demonstrating that you are legally, technically, and financially qualified to hold a lease, as set forth in 30 CFR 585.106-.107. Qualification materials should be developed in accordance with the guidelines available at https://www.boem.gov/Renewable-Energy-Qualification-Guidelines/. Treatment of confidential information is addressed in Section 9, entitled “Protection of Privileged, Personal, or Confidential Information.” For examples of documentation appropriate for demonstrating your legal qualifications and related guidance, contact Gina Best, BOEM Office of Renewable Energy Programs, at gina.best@boem.gov or 703-787-1341.

9. Protection of Privileged, Personal, or Confidential Information

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.113(b) that it qualifies for exemption from disclosure under FOIA. Please label privileged or confidential information “Contains Confidential Information” and consider submitting such information as a separate attachment.

BOEM will not treat as confidential any aggregate summaries of such information or comments not containing such privileged or confidential information. Additionally, BOEM will not treat as confidential the legal title of the nominating entity (for example, the name of your company) or the list of whole or partial blocks that you are nominating. Information that is not labeled as privileged or confidential may be regarded by BOEM as suitable for public release.

b. Personally Identifiable Information

BOEM does not consider anonymous comments; please include your name and address as part of your comment. You should be aware that your entire comment, including your name, address, and any personally identifiable information (PII) included in your comment, may be made publicly available. All submissions from identified individuals, businesses, and organizations will be available for public viewing on regulations.gov. For BOEM to withhold your PII from disclosure, you must identify any information contained in your comments that, if released, would constitute a clearly unwarranted invasion of your personal privacy. You must also briefly describe any possible harmful consequences of the disclosure of information, such as embarrassment, injury, or other harm. Under the law, BOEM is unable to guarantee that all information in your request will be withheld.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

10. BOEM's Environmental Review Process

Before deciding whether leases may be issued, BOEM will prepare an environmental assessment (EA) under NEPA (including public comment periods to determine the scope of the EA and to review and comment on the draft EA). The EA will analyze anticipated impacts from leasing within the WEAs resulting from this Call and from site characterization and assessment activities expected to take place after leases are issued. Site characterization activities include geophysical, geotechnical, archaeological, and biological surveys; and site assessment activities include installation and operation of meteorological buoys. BOEM also will conduct appropriate consultations with Federal agencies and Tribal, State, and local governments during the EA. These consultations include, but are not limited to, those required by the Coastal Zone Management Act, the Magnuson-Stevens Fishery Conservation and Management Act, Endangered Species Act, section 106 of the NHPA, and Executive Order 13175,“Consultation and Coordination with Indian Tribal Governments.”

Before BOEM allows a lessee to begin construction of a wind energy project in the Call Area, BOEM will consider the potential environmental effects of the construction and operation of any wind energy facility under a separate, project-specific analysis under NEPA. This analysis will include additional opportunities for public involvement and likely will result in the publication of an environmental impact statement.

Amanda Lefton,
Director, Bureau of Ocean Energy Management.

[FR Doc. 2022-09036 Filed 4-28-22; 8:45 am]

BILLING CODE 4310-MR-P